INTERNATIONAL TRADE COMMISSION

[Investigation Nos. 701-TA-442-443 and 731-TA-1095-1097 (Preliminary)]

Certain Lined Paper School Supplies From China, India, and Indonesia

Determinations

On the basis of the record ¹ developed in the subject investigations, the United States International Trade Commission (Commission) determines, pursuant to sections 703(a) and 733(a) of the Tariff Act of 1930 (19 U.S.C. 1671b(a) and 1673b(a)) (the Act), that there is a reasonable indication that an industry in the United States is materially injured by reason of imports from India and Indonesia of certain lined paper school supplies that are alleged to be subsidized by the Governments of India and Indonesia, and by reason of imports from China, India, and Indonesia of certain lined paper school supplies that are alleged to be sold in the United States at less than fair value (LTFV).

¹ The record is defined in sec. 207.2(f) of the Commission's Rules of Practice and Procedure (19 CFR 207.2(f)).

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in the investigations under sections 703(b) and 733(b) of the Act, or, if the preliminary determinations are negative, upon notice of affirmative final determinations in those investigations under sections 705(a) and 735(a) of the Act. Parties that filed entries of appearance in the preliminary phase of these investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On September 9, 2005, a petition was filed with the Commission and Commerce by MeadWestvaco Corp. of Dayton, OH; Norcom, Inc., of Norcross, GA; and Top Flight, Inc., of Chattanooga, TN (collectively, the Association of American School Paper Suppliers), alleging that an industry in the United States is materially injured, and threatened with further material injury, by reason of subsidized imports of certain lined paper school supplies from India and Indonesia, and by reason of LTFV imports of certain lined paper school supplies from China, India, and Indonesia. Accordingly, effective September 9, 2005, the Commission instituted countervailing and antidumping duty investigation Nos. 701-TA-442-443 and 731-TA-1095-1097 (Preliminary).

Notice of the institution of the Commission's investigations and of a public conference to be held in connection therewith was given by posting copies of the notice in the Office of the Secretary, U.S. International Trade Commission, Washington, DC, and by publishing the notice in the Federal Register of September 19, 2005 (70 FR 54961). The conference was held in Washington, DC, on September 30, 2005, and all persons who requested the opportunity were permitted to appear in person or by counsel.

The Commission transmitted its determinations in these investigations to the Secretary of Commerce on October 24, 2005. The views of the Commission are contained in USITC Publication 3811 (October 2005), entitled Certain Lined Paper School Supplies from China, India, and Indonesia: Investigation Nos. 701-TA-442-443 and 731-TA-1095-1097 (Preliminary).

Issued: October 24, 2005.
By order of the Commission.
Marilyn R. Abbott,
Secretary to the Commission.

[FR Doc. 05-21590 Filed 10-28-05; 8:45 am]

BILLING CODE 7020-02-P